DEPARTMENT OF JUSTICE

28 CFR Parts 35 and 36

RIN 1190-AA61; 1190-AA62; 1190-AA63; 1190-AA64

Nondiscrimination on the Basis of Disability in State and Local Government Services, Public Accommodations and in Commercial Facilities; Hearings

AGENCY: Civil Rights Division, Department of Justice.

ACTION: Notice of proposed hearings.

SUMMARY: On July 26, 2010, the Department of Justice (Department) published four Advanced Notices of Proposed Rulemaking (ANPRMs) in the Federal Register to amend regulations issued under the Americans with Disabilities Act (ADA). These four ANPRMs include: Nondiscrimination on the Basis of Disability; Accessibility of Web Information and Services of State and Local Government Entities and Public Accommodations; Nondiscrimination on the Basis of Disability in State and Local Government Services; Accessibility of Next Generation 9-1-1; Nondiscrimination on the Basis of Disability; Movie Captioning and Video Description; and Nondiscrimination on the Basis of Disability by State and Local Governments and Places of Public Accommodation; Equipment and Furniture. To provide an opportunity for interested persons to express their views directly to Department officials, the Department will hold three public hearings on the ANPRMs.

DATES: The hearing dates are:

1. November 18, 2010, 9:30 a.m. to 4 p.m., CST, Chicago, IL.

2. December 16, 2010, 9:30 a.m. to 4 p.m., EST, Washington, DC.

3. January 2011 in San Francisco, CA, on a date to be announced in the near future on the ADA Home Page at http://www.ada.gov.

ADDRESSES: The hearing locations are:

1. Access Living, 115 West Chicago Avenue, Chicago, IL 60654.

2. United States Access Board, 1331 F Street, NW., Washington, DC 20004.

3. San Francisco, CA, at a location to be announced in the near future on the ADA Home Page at http://www.ada.gov.

FOR FURTHER INFORMATION CONTACT: Linda Garrett, Civil Rights Program Specialist, Disability Rights Section, Civil Rights Division at (202) 353-0423 (TTY). This is not a toll-free number. Information also may be obtained from the Department's toll-free ADA Information Line at (800) 514-0301 (Voice) or (800) 514-0383 (TTY), 9:30 a.m. to 5:30 p.m. Monday, Tuesday, Wednesday, and Friday, and 12:30 p.m. to 5 p.m. on Thursday.

SUPPLEMENTARY INFORMATION: On July 26, 2010, the Department published four ANPRMs seeking public comment on whether to revise the ADA regulations to address Web site accessibility, movie captioning and video description, accessible features for Next Generation 9-1-1, and accessible equipment and furniture. The Department has scheduled three public hearings on the ANPRMs to provide an opportunity to interested persons to express their views about the questions and issues raised in the ANPRMs. Entities, organizations, and individuals who wish to present comments at a particular hearing are encouraged to register in advance by calling the ADA Information Line at (800) 514-0301 (Voice) or (800) 514-0383 (TTY) at least five business days in advance of the hearing date. Organizations should designate no more than one individual to speak on behalf of the organization. Commenters who are not able to testify in person will have the option to present their comments using a speaker telephone, telephone relay service, or video relay service. The Department will attempt to provide an approximate time for the receipt of comments from those who register in advance; however, persons who register in advance should report to the registration desk at the hearing at least one-half hour prior to their scheduled time in order to confirm the time and order of their presentations. Those who register to comment via speaker telephone, telephone relay service, or video relay service should be available at the number they provided during pre-registration at least one-half hour before their scheduled time.

Some time at the hearing will be reserved for those who do not register in advance. These persons may register on-site at the registration desk, which will open one hour before the hearing is scheduled to begin and will operate throughout the day. Time to make their presentations will be assigned when open slots are available.

Comments will be limited to five minutes per person or organization, but commenters who wish to may supplement their testimony with written statements that will be made part of the official hearing record. If the Department determines that there is not enough time to hear from all those wishing to present comments, the Department will select among those wishing to testify to ensure representation of a range of viewpoints and interests. A laptop computer and projection screen will be available for commenters wishing to use a PowerPoint presentation in conjunction with their testimony.

The hearing sites will be accessible to individuals with disabilities. Sign language interpreters, real-time captioning, and assistive listening devices will be provided. Individuals who require other accommodations, auxiliary aids, or foreign language translation should contact Linda Garrett at (202) 353-0423 (TTY) or by e-mail at Linda.Garrett@usdoj.gov no later than one week before the date of the hearing they wish to attend. Additional information, including information about accessible public transportation and parking, will be available on the ADA Home Page at http://www.ada.gov. The ANPRMs are available electronically in accessible formats at http://www.regulations.gov and http://www.ada.gov. This hearing notice is available electronically in accessible formats at http://www.ada.gov. Copies of this notice also are available in formats accessible to individuals who are blind or have low vision and may be obtained by calling the ADA Information Line.

Those persons who are not able to participate in the public hearing are encouraged to submit written comments electronically to http://www.regulations.gov or by mail as follows: Disability Rights Section, Civil Rights Division, U.S. Department of Justice, P.O. Box 2885, Fairfax, VA 22031-0885. Overnight deliveries should be sent to the Disability Rights Section, Civil Rights Division, U.S. Department of Justice, located at 1425 New York Avenue, NW., Suite 4039, Washington, DC 20005. All comments will be made available for public viewing online at http://www.regulations.gov and must be received by January 24, 2011.

Dated: October 19, 2010.
Thomas E. Perez,
Assistant Attorney General for Civil Rights.

[FR Doc. 2010-27092 Filed 10-26-10; 8:45 am]

BILLING CODE 4410-13-P